DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) issued during the period of August 2003.

In order for an affirmative determination to be made and a certification of eligibility to apply for directly-impacted (primary) worker adjustment assistance to be issued, each of the group eligibility requirements of section 222(a) of the Act must be met.

I. Section (a)(2)(A)

All of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B)

Both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following case, the investigation revealed that the criteria for eligibility have not been met for the reasons specified.

The investigation revealed that criterion (a)(2) (A)(I.C.) (Increased imports) and (a)(2)(B)(II.B) (No shift in production to a foreign country) have not been met.

TA-W-52,287; Vesuvius USA, Employed at International Steel Group, Cleveland, OH

TA-W-52,359; Swag-Nit, Inc., Mt. Holly, NC

TA-W-52,363; FSI International, Allen, TX

TA-W-52,139; Discovery Plastics, Inc, Albany, OR

TA-W-52,277; Hubbell, Inc., Killark Div., Louisiana, MO

TA-W-52,192; Polymark Corp., Cincinnati, OH

TA-W-52,210; Woodgrain Millwork, White City, OR

TA-W-52,301; Edgcomb Metals Co., LLC, Detroit Plant, a div. of Macsteel Service Centers USA, Roseville, MI

TA-W-52,304; Standard Register Co., Kirksville, MO

TA-W-52,321; Anvil International, Inc., Kearny Plant, dba Beck Manufacturing, South Kearny, NJ

TA-W-52,362; Cookson Electronics, Assembly Material Group, a div. of Frys Metals, Inc., dba Alpha Metals, Jersey City, NJ

TA-W-51,939; Standard Mercerizing and Specialty Yarn, LLC., formerly known as Standard Coosa Industries, Inc., Chattanooga, TN

TA-W-52,175; Froedtert Malt Co., Inc., Milwaukee, WI

TA-W-52,339; Advanced Manufacturing and Development, Inc., dba Metalfx, Willits, CA

TA-W-52,462; Fishing Vessel (F/V) Joseph Booney, Cordova, AK

The workers firm does not produce an article as required for certification under section 222 of the Trade Act of 1974.

TA-W-52,525; Alcatel Internetworking (PE), Spokane, WA

TA-W-52,589; Hunter Corp., Portage, IN

TA-W-52,645; KBK Management Associates, Youngstown, OH

TA-W-52,537; Best Buy Enterprise Services, Inc., Information Systems Department, Data Warehouse Group, Eden Prairie, MN

TA-W-52,373; Agilent Technologies, Inc., Information Technology Div., Fort Collins, CO

TA-W-52,380; Precision Roll Grinders, Inc., Allentown, PA

TA-W-52,531; Stream International, Inc., Beaverton, OR

TA-W-52,539; Xerox Corp., Logistics Customer Supply Center, Webster, NY

TA-W-52,318; GE Osmonics, Inc., a div. of General Electric Co., Minnetonka, MN

TA-W-52,379; Maritz, Fenton, MO

TA-W-52,471; The Eureka Co., Product Department, Bloomington, IL

The investigation revealed that criteria (a)(2)(A)(I.A) (no employment declines) have not been met.

TA-W-52,520; Fishing Vessel (F/V) Pamela Dawn, Kodiak, AK

The investigation revealed that criteria (a)(2)(A) (I.C) (increased imports) and (a)(2)(B) (II.C) (has shifted production to a foreign country) have not been met.

TA-W-52,440; Thermo King Corp., North American Div., Louisville, GA

The investigation revealed that criteria (a)(2)(A) (I.B) (Sales or production, or both, did not decline) and (a)(2)(B) (has shifted production to a county not under the free trade agreement with U.S.) have not been met.

TA-W-52,145; Philips Elmet, Lewiston, ME

TA-W-52,400; Kollsman, Inc., a wholly owned subsidiary of EFW, Inc., Merrimack, NH

TA-W-52,412; Lear Corp., SSD Div., Elsie, MI

TA-W-52,434; De La Rue Cash Systems, Cash Systems Div., Watertown, WI

Affirmative Determinations for Worker Adjustment Assistance

The following certifications have been issued; the date following the company name and location of each determination references the impact date for all workers of such determination.

The following certifications have been issued. The requirements of (a)(2)(A) (increased imports) of section 222 have been met.

TA-W-52,319; Akron Porcelain and Plastics Co., Inc., Akron, OH: June 20, 2002.

TA-W-52,056; Dynamic Metal Forming, Inc., Scottdale, PA: June 13, 2002.

TA-W-52,213 & A, B; Hoover Co., Main Plant/Distribution Center, North Canton, OH, Industrial Park, North Canton, OH and Plant #2, Canton, OH: June 25, 2002.

TA-W-52,364; Meridian Beartrack Co., Salmon, ID: August 21, 2003.

TA-W-52,371 & A; Hickory Chair Co., Plant #7, a div. of Thomasville Furniture Industries, Inc., Hickory, NC and Plant #20, a division of Thomasville Furniture Industries, Inc., Hickory, NC: July 21, 2002.

TA-W-52,436; Empire Steel Castings, a div. of Atchison Casting Corp., Lauredale, PA: July 29, 2002.

TA-W-52,397; Oxford Textile, Inc., Oxford, NJ: July 10, 2002.

TA-W-52,435; Quaker Alloy, Inc., a div. of Atchison Casting Corp., Myerstown, PA: July 29, 2002.

TA-W-52,445; Baron Drawn Steel Corp., Toledo, OH: July 21, 2002.

TA-W-52,240; LTD Industries, Inc., Lewistown, IL: June 20, 2002.

TA-W-52,242; Louisiana Pacific Corp., Belgrade, MT: July 7, 2002.

TA-W-52,243; Nestle Purina Pet Food, St. Joseph, MO: July 1, 2002.

TA-W-52,316; Louisiana Pacific Corp., formerly Crown Pacific, Bonners Ferry, ID: June 26, 2002.

TA-W-52,331; Advanced Micro Devices (AMD), Lone Star Fab 14 and 15, including leased workers of Volt Service Group, Austin, TX: April 15, 2002.

TA-W-52,376; Delphi Corp., Delphi Energy Chassis Systems Div., Kettering, OH: July 22, 2002.

TA-W-52,377; Weyerhaeuser Co., Rothschild Mill, Rothschild, WI: July 23, 2002.

TA-W-52,406; Major Wire and Conductor, Chicopee, MA: July 17, 2002.

TA-W-52,663; Anderson Pattern, Inc., Muskegon Heights, MI: April 20, 2002.

TA-W-51,803; North American Cronite, Inc., div. of AFE Technologies, formerly HT Alloys Div. of North American Cronite, Inc., North Ridgeville, OH: May 9, 2002.

TA-W-52,146; Bruce Furniture Industries, LLC, Bruce, MS: June 6, 2002.

TA-W-52,308; Cal Quality Electronics, Inc., Santa Ana, CA: July 15, 2002.

TA-W-52,174 & A; Elkem Metals Co., Ferrosilicon Div., Alloy, WV and Silicon Div., Alloy, WV: June 25, 2002.

TA-W-52,269; L.A. Darling Co., Paragould, AR: July 3, 2002.

TA-W-52,286; L.A. Darling Co., Wood Div., Piggot, AR: June 11, 2002.

TA-W-52,296; L.A. Darling Co., Metal Div., Corning, AR: July 14, 2002.

TA-W-52,302; Dominion Apparel, a div. of Grayson Properties Corp., Galax, VA: July 14, 2002

TA-W-52,356; Jo-Bo, Inc., Georgetown, SC and Myrtle Beach, SC: June 30, 2002.

TA-W-52,370; Thomson Crown Wood Products, including leased workers of Ablest Staffing, Mocksville, NC: July 14, 2002.

TA-W-52,398 & A, B; American Racing Equipment, Inc., Plant I, a subsidiary of Noranda, Rancho Dominquez, CA and Plant II, a subsidiary of Noranda, Rancho Dominquez, CA and Gardena Plant, a subsidiary of Noranda, Gardena, CA: July 17, 2002.

The following certifications have been issued. The requirements of (a)(2)(B) (shift in production) of section 222 have been met.

TA-W-52,344; Green Bay Packaging, Inc., Coated Products Div., Green Bay, WI: July 3, 2002.

TA-W-52,439; Hudson, RCI, Voldyne Product Div., Temecula, CA: July 30, 2002.

TA-W-52,557; Inflation Systems, Inc., Moses Lake Operations, Moses Lake, WA: August 13, 2002.

TA-W-52,295; Breed Steering Systems, Inc., Quality Assurance Lab, Brownsville, TX: July 8, 2002.

TA-W-52,382; Capital Mercury Apparel, Ltd, Mar-Bax Shirt Company Div., Gassville, AR: July 23, 2002.

TA-W-52,448; T.S. Trim Industries, Inc., Athens Div., Athens, OH: August 1, 2002.

TA-W-52,455; Waterloo Industries, Inc., Including Leased Workers of Staffmark, Pocahontas, AR: July 24, 2002.

TA-W-52,519; Holm Industries, Inc./ILPEA, Inc., Galesburg, IL: August 11, 2002.

TA-W-51,988; Vishay-North American Capacitor Company, formerly North American Capacitor Company, a subsidiary of Vishay Intertechnology, Greencastle, IN: June 6, 2002.

TA-W-52,054; Coin Acceptors, Inc., dba Coinco, Mountain View Fabricators Div., Mountain View, MO: June 13, 2002.

TA-W-52,071; Colson Plastics, a div. of Colson Caster Corp., Monette, AR: June 16, 2002.

TA-W-52,427; Dan River, Inc., Danville, VA: July 14, 2002.

TA-W-52,438; Consolidated Fabricators, Inc., Clinton, SC: July 17, 2002.

TA-W-52,088; Avondale Mills, Inc., Bevelle Plant, Alexander City, AL: June 13, 2002.

TA-W-52,372; Code Systems, Inc., formerly Code Alarm, Inc., a wholly-owned subsidiary of Audiovox Electronics Corp., including leased workers of Forge Industrial Staffing, Troy, MI: July 21, 2002.

TA-W-52,390; Eaton Corp., Automotive PSCO Div., including leased workers of Kelly Services, Ann Arbor, MI: July 11, 2002.

TA-W-52,648; Wall Repair Systems, Inc., dba Step Savers, including leased workers of Spectral Contractors, Inc., Vancouver, WA: August 15, 2002.

TA-W-52,532; Exfo Burleigh Products Group, Inc., Victor, NY: July 12, 2002.

The following certification has been issued. The requirement of upstream supplier to a trade certified primary firm has been met.

TA-W-52,419; Nestaway, a div. of Axia, Inc., Cleveland, OH: July 16, 2002.

I hereby certify that the aforementioned determinations were issued during the months of August. Copies of these determinations are available for inspection in Room C-5311, U.S. Department of Labor, 200 Constitution Avenue, NW., Washington, DC 20210 during normal business hours or will be mailed to persons who write to the above address.

Dated: September 3, 2003.
Terrence Clark,
Director, Division of Trade Adjustment Assistance.

[FR Doc. 03-23709 Filed 9-16-03; 8:45 am]

BILLING CODE 4510-30-P